DEPARTMENT OF ENERGY

Federal Energy Regulatory Commission

[Docket Nos. ER99-2984-002, et al.]

Green Country Energy, LLC, et al.; Electric Rate and Corporate Filings

June 20, 2003.

The following items filings have been made with the Commission. The filings are listed in ascending order within each docket classification:

1. Green Country Energy, LLC

[Docket No. ER99-2984-002]

Take notice that on June 18, 2003, Green Country Energy, LLC (Green Country) filed with the Federal Energy Regulatory Commission a notice of change in status with respect to Green County's upstream ownership that was affected by the transaction authorized by the Commission's Order, issued April 23, 2003, in Docket No. EC03-71-000.

Comment Date: July 9, 2003.

2. Carolina Power & Light Company and Florida Power Corporation

[Docket Nos. ER01-1807-011 and ER01-2020-008]

Take notice that on June 16, 2003, Carolina Power & Light Company (CP&L) and Florida Power Corporation (FPC), tendered for filing revised tariff sheets under their FERC Electric Tariffs, Third Revised Volume No. 3 and Second Revised Volume No. 6, respectively, in compliance with the Commission's order issued May 21, 2003, in Carolina Power & Light Co. and Florida Power Corp., 103 FERC ¶ 61,209.

CP& L states that copies of the filing were served upon the North Carolina Utilities Commission, the Florida Public Service Commission and all parties listed on the official service list maintained by the Commission in these proceedings.

Comment Date: July 7, 2003.

3. ISO New England Inc.

[Docket No. ER02-2330-014]

Take notice that on June 18, 2003, ISO New England Inc. submitted a compliance filing providing a status report on the implementation of Standard Market Design in New England.

Comment Date: July 9. 2003.

4. Devon Power LLC, Middletown Power LLC, Montville Power LLC, Norwalk Power LLC and NRG Power Marketing Inc.

[Docket No. ER03-563-011]

PPL Wallingford Energy LLC and PPL EnergyPlus, LLC

[Docket No. ER03-421-004]

Take notice that on June 13, 2003, PPL Wallingford Energy LLC submitted a compliance filing containing cost support for the Federal Energy Regulatory Commission (Commission) to develop Peaking Unit Safe Harbor reference levels for PPL Wallingford in accordance with the procedures set forth in Devon Power LLC, et al., 103 FERC ¶ 61,082.

PPL Wallingford Energy LLC states that it has provided a copy of this filing to each person designated on the official service list.

Comment Date: July 7, 2003.

5. Idaho Power Company

[Docket No. ER03-964-000]

Take notice that on June 16, 2003, Idaho Power Company (Idaho Power) tendered for filing with the Federal Energy Regulatory Commission Contract Demand Notices relating to agreements between Idaho Power and various entities, as follows: Seattle City Light, FERC Rate Schedule No. 72; Washington City, Utah, FERC Rate Schedule No. 74; Utah Associated Municipal Power Systems, FERC Rate Schedule No. 75; and Bonneville Power Administration, FERC Rate Schedule No. 77. Idaho Power seeks effective dates commensurate with the dates of the Contract Demand Notices.

Comment Date: July 7, 2003.

6. ACN Utility Services, Inc.

[Docket No. ER03-965-000]

Take notice that on June 16, 2003 ACN Utility Services, Inc. (ACN Utility Services) petitioned the Commission for acceptance of ACN Utility Services Rate Schedule FERC No. 1; the granting of certain blanket approvals, including the authority to sell electricity at market-based rates; and the waiver of certain Commission regulations.

ACN Utility Services states that it intends to engage in wholesale electric power and energy purchases and sales as a marketer. ACN Utility Services also indicates that it is not in the business of generating or transmitting electric power, and states it is a wholly owned subsidiary of American Communications Network, Inc., which is primarily engaged in the marketing of long distance telephone, paging and internet services.

Comment Date: July 7, 2003.

7. Progress Power Marketing, Inc. and Richmond County Power, LLC

[Docket No. ER03-966-000]

Take notice that on June 17, 2003, Progress Energy, Inc., on behalf of Progress Power Marketing, Inc. (PPMI) and Richmond County Power, LLC (Richmond), tendered for filing two Notices of Cancellation for PPMI's FERC Electric Rate Schedule No. 1, as supplemented, originally filed in Docket No. ER96-1618-000, and Richmond's FERC Electric Tariff, Original Volume No. 1, originally filed in Docket No. ER01-1417-000. PPMI and Richmond state that the filing is being made to reflect the fact that no business is being transacted under either tariff. Progress Energy requests an effective date of June 18, 2003.

PPMI and Richmond state that copies of this filing have been served on the relevant state utility commissions and the official service lists in Docket Nos. ER96-1618-000 and ER01-1417-000.

Comment Date: July 8, 2003.

8. American Transmission Company LLC

[Docket No. ER03-967-000]

Take notice that on June 18, 2003, American Transmission Company LLC (ATCLLC) tendered for filing a Notice of Termination of the Generation-Transmission Interconnection Agreement between ATCLLC and Mirant Portage County, Service Agreement No. 231 under ATCLLC's FERC Electric Tariff, Original Volume No. 1, filed in Docket No. ER02-772-000. ATCLLC requests an effective date of July 15, 2003.

Comment Date: July 9, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-16439 Filed 6-27-03; 8:45 am]

BILLING CODE 6717-01-P